DEPARTMENT OF COMMERCE

National Oceanic and Atmospheric Administration

Proposed Information Collection; Comment Request; Alaska Saltwater Sport Fishing Economic Survey

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before August 1, 2016.

ADDRESSES: Direct all written comments to Jennifer Jessup, Departmental Paperwork Clearance Officer, Department of Commerce, Room 6616, 14th and Constitution Avenue NW., Washington, DC 20230 (or via the Internet at JJessup@doc.gov).

FOR FURTHER INFORMATION CONTACT: Requests for additional information or copies of the information collection instrument and instructions should be directed to Dr. Dan Lew (Phone: (530) 554-1842; Email: Dan.Lew@noaa.gov).

SUPPLEMENTARY INFORMATION:

I. Abstract

This request is for a reinstatement, with changes, of a previously approved data collect (OMB Control Number 0648-0639).

The National Marine Fisheries Service (NMFS) previously collected survey data in 2007 and 2012 for conducting economic analyses of marine sport fishing in Alaska. These surveys were necessary to understand the factors that affect the economic value of marine recreational fishing trips and improve estimates of fishing trip values that can aid fishery managers evaluate management options pertaining to sport fisheries. The proposed survey is an update of the previously conducted surveys and is needed to improve estimates of fishing trip values potentially affected by recent changes in federal recreational fisheries off Alaska, most notably the Halibut Catch Sharing Plan (76 FR 44156) which went into effect in 2014 for the Pacific halibut fishery. Several questions in the survey have been updated to better reflect these recent fishery management changes.

The Federal Government is responsible for the management of the Pacific halibut sport fishery off Alaska, while the State of Alaska manages the salmon sport fisheries (Chinook, coho, sockeye, chum, and pink), as well as several other saltwater sport fisheries. The updated survey's scope covers marine sport fishing for Pacific halibut, salmon, and other popular marine sport species in Alaska (e.g., lingcod and rockfish). The data collected from the survey will be used to update estimates of the demand for and value of marine fishing to anglers and to analyze how the type of fish caught, fishery regulations, and other factors affect fishing values and anglers' decisions to participate in Alaska marine fishing activities. The economic information provided from the survey will help inform fishery managers about the economic values of Alaska marine sport fisheries and the changes to participation in these fisheries with proposed regulations.

II. Method of Collection

Data will be collected through a mixed mode mail-telephone survey. A random sample of sport anglers who have fished in Alaska will receive an advance letter informing them that a survey is on its way. A few days later the initial questionnaire will arrive. In subsequent weeks, a reminder postcard, a reminder telephone call, and a second questionnaire will be mailed to respondents who have not completed and returned the mail survey. The reminder telephone calls will collect information from individuals who have not responded to the mail survey and encourage them to complete and return the survey.

III. Data

OMB Control Number: 0648-0639.

Form Number(s): None.

Type of Review: Regular (reinstatement with changes).

Affected Public: Individuals or households.

Estimated Number of Respondents: 3,000.

Estimated Time per Response: 30 minutes.

Estimated Total Annual Burden Hours: 1,500 hours.

Estimated Total Annual Cost to Public: $0 in recordkeeping/reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: May 26, 2016.
Sarah Brabson,
NOAA PRA Clearance Officer.

[FR Doc. 2016-12808 Filed 5-31-16; 8:45 am]

BILLING CODE 3510-22-P